DEPARTMENT OF TRANSPORTATION

Office of the Secretary

[Docket No. DOT-OST-2020-0049]

Information Collection Activities; Requests for Comments; Correction

AGENCY: Office of the Secretary (OST), DOT.

ACTION: Notice; correction.

SUMMARY: The Office of Drug and Alcohol Policy and Compliance (ODAPC), DOT, published a document in the Federal Register of September 3, 2020, concerning a 30-day notice and request for comments on an Information Collection Request. The document contained typographical errors.

FOR FURTHER INFORMATION CONTACT: Bohdan Baczara, Office of Drug and Alcohol Policy and Compliance, Office of the Secretary, U.S. Department of Transportation, 1200 New Jersey Avenue SE., Washington, DC 20590; 202-366-3784 (voice), 202-366-3897 (fax), or bohdan.baczara@dot.gov. When submitting comments or requesting information, please include the docket number and information collection title for reference.

SUPPLEMENTARY INFORMATION:

Corrrection

In the Federal Register of September 3, 2020, in FR Doc 2020-19366, on page 55066, in the first column, correct the “Supplementary Information” caption to read:

SUPPLEMENTARY INFORMATION: OMB Control Number: 2105-0529.

Title: Procedures for Transportation Workplace Drug and Alcohol Testing Programs.

Type of Review: Clearance of a renewal of an information collection.

Form Numbers: DOT F 1385; DOT F 1380.

Respondents: The information will be used by transportation employers, Department representatives, and a variety of service agents.

Abstract: Under the Omnibus Transportation Employee Testing Act of 1991, DOT is required to implement a drug and alcohol testing program in various transportation-related industries. This specific requirement is elaborated in 49 CFR part 40, Procedures for Transportation Workplace Drug and Alcohol Testing Programs. This request for a renewal of the information collection for the program includes 43 burden items including the U.S. Department of Transportation Alcohol Testing Form (ATF) [DOT F 1380] and the DOT Drug and Alcohol Testing Management Information System (MIS) Data Collection Form [DOT F 1385].

The ATF includes the employee's name, the type of test taken, the date of the test, and the name of the employer. Data on each test conducted, including test results, is necessary to document that the tests were conducted and is used to take action, when required, to ensure safety in the workplace. The MIS form includes employer specific drug and alcohol testing information such as the reason for the test and the cumulative number of test results for the negative, positive, and refusal tests. No employee specific data is collected. The MIS data is used by each of the affected DOT Agencies (i.e., Federal Aviation Administration, Federal Transit Administration, Federal Railroad Administration, Federal Motor Carrier Safety Administration, and the Pipeline and Hazardous Materials Safety Administration) and the United States Coast Guard when calculating their industry's annual random drug and/or alcohol testing rate.

Estimated total number of respondents: 3,593,202.

Estimated number of Responses: 11,858,782.

Frequency of Response: The information will be collected annually.

Estimated Total Number Burden Hours: 1,287,811.

PRA item | Number of respondents | Number of responses | Burden hours | Salary costs ($)
Exemptions from Regulation Provisions Requests [40.7(a)] | 1 | 1 | 3 | $104
Employer Stand-down Waiver Requests [40.21(b)] | 0 | 0 | 0 | 0
Employee Testing Records from Previous Employers [40.25(a)] | 584,628 | 3,538,179 | 471,757 | 16,379,410
Employee Release of Information [40.25(f)] | 3,538,179 | 3,538,179 | 235,878 | 8,189,704
MIS Form Submission [40.26] | 17,840 | 17,840 | 26,760 | 929,107
Collector (Qualification and Refresher) Training Documentation (40.33(b) & (e)] | 5,000 | 5,000 | 333 | 11,561
Collector Error Correction Training Documentation [40.33(f)] | 12,000 | 19,625 | 1,308 | 45,425
Laboratory Reports to DOT Regarding Unlisted Adulterant [40.91(e)] | 0 | 0 | 0 | 0
Semi-Annual Laboratory Reports to Employers [40.111(a)] | 23 | 385,854 | 25,723 | 893,123
Semi-Annual Laboratory Reports to DOT [40.111(d)] | 23 | 46 | 3 | 106
Medical Review Officer (MRO) (Qualifications and Continuing Education) Training Documentation [40.121(c) & (d)] | 1,000 | 1,000 | 66 | 2,291
MRO Review of Negative Results Documentation [40.127(b)(2)(ii)] | 5,000 | 381,055 | 25,403 | 881,992
MRO Failure to Contact Donor Documentation [40.131(c)(1)] | 5,000 | 63,827 | 4,255 | 147,738
MRO Effort to Contact DER Documentation [40.131(c)(2)(iii)] | 5,000 | 63,827 | 4,255 | 147,738
DER Successful Contact Employee Documentation [40.131(d)] | 51,061 | 51,061 | 3,404 | 118,190
DER Failure to Contact Employee Documentation [40.131(d)(2)(i)] | 12,765 | 12,765 | 851 | 29,547
MRO Verification of Positive Result Without Interview Documentation [40.133] | 5,000 | 12,765 | 851 | 29,547
Adulterant/Substitution Evaluation Physician Statements [40.145(g)(2)(ii)(d)] | 0 | 0 | 0 | 0
MRO Cancellation of Adulterant/Substitution for Legitimate Reason Reports [40.145(g)(5)] | 0 | 0 | 0 | 0
Employee Admission of Adulterating/Substituting Specimen MRO Determination [40.159(c)] | 40 | 40 | 3 | 104
Split Specimen Requests by MRO [40.171(c)] | 5,000 | 7,206 | 480 | 16,680
Split Failure to Reconfirm for Drugs Reports by MRO [40.187(b)] | 35 | 34 | 2 | 69
Split Failure to Reconfirm for Adulterant/Substitution Reports by MRO [40.187(c)] | 5 | 5 | 1 | 34
Shy Bladder Physician Statements [40.193(f)] | 773 | 773 | 64 | 2,238
MRO Statements Regarding Physical Evidence of Drug Use [40.195(b) & (c)] | 0 | 0 | 0 | 0
Drug Test Correction Statements [40.205 (b)(1) & (2)] | 25,000 | 154,732 | 20,630 | 716,308
Breath Alcohol Technician (BAT)/Screening Test Technician (STT) (Qualification and Refresher) Training Documentation [40.213(b)(c) & (e)] | 2,000 | 2,000 | 133 | 4,617
BAT/STT Error Correction Training Documentation [40.213(f)] | 168 | 168 | 11 | 390
Complete DOT Alcohol Testing Forms [40.225(a)] | 10,000 | 3,378,454 | 450,460 | 15,639,989
Evidential Breath Testing Device Quality Assurance/Calibration Records [40.233(c)(4)] | 10,000 | 10,000 | 666 | 23,123
Shy Lung Physician Statements [40.265(c)(2)] | 168 | 168 | 11 | 390
Alcohol Test Correction Statements [40.271(b)(1) & (2)] | 337 | 337 | 22 | 781
Substance Abuse Professional (SAP) (Qualification and Continuing Education) Training Documentation [40.281(c) & (d)] | 3,334 | 3,334 | 222 | 7,707
Employer SAP Lists to Employees [40.287] | 10,000 | 115,713 | 7,714 | 267,837
SAP Reports to Employers [40.311(c),(d) & (e)] | 10,000 | 94,456 | 6,297 | 218,634
Correction Notices to Service Agents [40.373(a)] | 25 | 25 | 25 | 868
Notice of Proposed Exclusion (NOPE) to Service Agents [40.375(a)] | 5 | 5 | 50 | 1,736
Service Agent Requests to Contest Public Interest Exclusions (PIE) [40.379(b)] | 2 | 2 | 2 | 69
Service Agent Information to Argue PIE [40.379(b)(2)] | 2 | 2 | 8 | 277
Service Agent Information to Contest PIE [40.381(a) & (b)] | 2 | 2 | 8 | 277
Notices of PIE to Service Agents [40.399] | 1 | 1 | 1 | 34
Notices of PIE to Employer and Public [40.401(b) & (d)] | 1 | 1 | 1 | 34
Service Agent PIE Notices to Employers [40.403(a)] | 1 | 300 | 150 | 5,208
Total New | 3,593,202 | 11,858,782 | 1,287,811 | 44,712,987

Public Comments Invited: (1) Whether the proposed collection of information is necessary for the proper performance of the functions of the Department, including whether the information will have practical utility; (2) the accuracy of the Department's estimate of the burden of the proposed information collection; (3) ways to enhance the quality, utility and clarity of the information to be collected; and (4) ways to minimize the burden of the collection of information on respondents, including the use of automated collection techniques or other forms of information technology.

Authority: The Paperwork Reduction Act of 1995; 44 U.S.C. Chapter 35, as amended.

Issued in Washington, DC on September 23, 2020.
Bohdan Baczara,
Deputy Director, DOT, Office of Drug and Alcohol Policy and Compliance.

[FR Doc. 2020-21399 Filed 9-29-20; 8:45 am]

BILLING CODE 4910-9X-P